DEPARTMENT OF AGRICULTURE

Foreign Agricultural Service

Trade Adjustment Assistance for Farmers

AGENCY: Foreign Agricultural Service, USDA.

ACTION: Notice of public hearing.

The Administrator today accepted a petition, and began review of a petition, for trade adjustment assistance by the Prune Bargaining Association on behalf of prune producers in California. A public hearing to review the merits of the petition will be held via teleconference on May 6, 2010, at 3 p.m. Eastern Time to receive oral comments associated with this petition.

SUPPLEMENTARY INFORMATION: The Administrator will determine within 40 days whether or not increasing imports of prune juice contributed importantly to a greater than 15 percent decrease in the national average price of prunes compared to the average of the three preceding marketing years. The petition maintains that California prune producers have suffered a greater than 15 percent decrease in the national average price due primarily to U.S. imports of prune juice (primarily in the form of prune juice concentrate) and, to a smaller degree, dried prunes. If a determination is affirmative, producers who produce and market prunes in California will be eligible to apply to the Farm Service Agency for cash benefits and technical assistance at no cost. Persons who wish to listen or speak at the hearing must register with the TAA Coordinator at (202) 720-0638 or (202) 690-0633, at least 24 hours before the hearing. Presenters will be allotted time to speak via telephone and must dial 1 (800) 867-6144. When prompted for your conference code, please enter 4843 on your telephone keypad. Speakers should also submit a written summary of their remarks for the record by faxing them to (202) 720-0876.

FOR FURTHER INFORMATION CONTACT: Trade Adjustment Assistance Staff, FAS, USDA, at (202) 720-0638, or by e-mail at: tradeadjustment@fas.usda.gov. Additional program information can be obtained at the Web site for the Trade Adjustment Assistance for Farmers program. The URL is http://www.fas.usda.gov/itp/taa.

Dated: April 28, 2010.
John D. Brewer,
Administrator, Foreign Agricultural Service.

[FR Doc. 2010-10439 Filed 5-3-10; 8:45 am]

BILLING CODE 3410-10-P